DEPARTMENT OF AGRICULTURE

Forest Service

Rogue/Umpqua Resource Advisory Committee (RAC); Meeting

AGENCY: Forest Service, USDA Forest Service.

ACTION: Notice of meeting.

SUMMARY: The Rogue/Umpqua Resource Advisory Committee (RAC) will meet on Friday, February 7, 2003. The meeting is scheduled to begin at 2 p.m. and conclude at 3 p.m., with possibility of continuing until 4 p.m. The meeting will be held via telephone conference call. People are welcome to attend the call in person at the Umpqua National Forest Headquarters at 2900 NW Stewart Parkway in Roseburg or the Rogue River National Forest Headquarters at 333 W. 8th Street in Medford. The agenda includes: (1) Roll call to determine quorum, (2) Redirecting $204,000 to reforestation work resulting from fires in 2002, and (3) Public Forum. The Public Forum is scheduled to begin at 2:45 p.m. Time allotted for individual presentations will be limited to 3-4 minutes. Written comments are encouraged and may be submitted prior to the February 7th meeting by sending them to Designate Federal Official Jim Caplan at the address given below.

FOR FURTHER INFORMATION CONTACT: For more information regarding this meeting, contact Designated Federal Official Jim Caplan; Umpqua National Forest; PO Box 1008, Roseburg, Oregon 97470; (541) 957-3203.

Dated: December 23, 2002.
Paul Matter,
Acting Deputy Forest Supervisor, Umpqua National Forest.

[FR Doc. 02-32960 Filed 12-27-02; 8:45 am]

BILLING CODE 3410-11-M